INTERNATIONAL TRADE COMMISSION

[Investigation Nos. 701-TA-778 and 731-TA-1764 (Preliminary)]

Fresh Mushrooms From Canada; Revised Schedule for the Subject Proceeding

AGENCY: United States International Trade Commission.

ACTION: Notice.

DATES: November 17, 2025.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 16, 2025, the Commission established a schedule for the conduct of the subject proceeding (90 FR 45245, September 19, 2025). Due to the lapse in appropriations and ensuing cessation of Commission operations, the Commission is revising its schedule as follows: requests to appear at the conference should be provided by noon on November 19, 2025; parties shall file written testimony and supplementary material in connection with their presentation at the conference no later than 4:00 p.m. on November 20, 2025; the staff conference is on November 21, 2025 beginning at 9:30 a.m.; written briefs containing information and arguments pertinent to the subject matter of the proceeding are due on or before 5:15 p.m. on November 25, 2025. The Commission must reach preliminary determinations by December 17, 2025, and the Commission's views must be transmitted to Commerce within five business days thereafter, or by December 24, 2025.

For further information concerning this proceeding, see the Commission's notice cited above and the Commission's Rules of Practice and Procedure, part 201, subparts A and B (19 CFR part 201), and part 207, subparts A and B (19 CFR part 207).

Authority: This proceeding is being conducted under authority of title VII of the Tariff Act of 1930; this notice is published pursuant to section 207.12 of the Commission's rules.

By order of the Commission.
Issued: November 17, 2025.
Lisa Barton,
Secretary to the Commission.

[FR Doc. 2025-20312 Filed 11-18-25; 8:45 am]

BILLING CODE 7020-02-P